DEPARTMENT OF TRANSPORTATION

Federal Aviation Administration

14 CFR Part 71

[Docket No. FAA-2011-0621; Airspace Docket No. 11-ASO-28]

Amendment of Class D and E Airspace; Tri-Cities, TN; Revocation of Class E Airspace; Tri-City, TN

AGENCY: Federal Aviation Administration (FAA), DOT.

ACTION: Final rule.

SUMMARY: This action amends Class D and Class E airspace and removes Class E airspace in the Tri-Cities, TN, area, to accommodate the new Area Navigation (RNAV) Global Positioning System (GPS) Standard Instrument Approach Procedures at Tri-Cities Regional Airport. This action enhances the safety and airspace management of Instrument Flight Rules (IFR) operations within the National Airspace System. This action also updates the geographic coordinates, airport name, and airspace designation. Also, this action corrects errors in the Class E descriptor.

DATES: Effective 0901 UTC, May 2, 2013. The Director of the Federal Register approves this incorporation by reference action under title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

On September 28, 2012, the FAA published in the Federal Register a supplemental notice of proposed rulemaking (SNPRM) to amend Class D and Class E airspace in the Tri-Cities, TN, area (77 FR 59573). The SNPRM would list Hawkins County Airport and Virginia Highlands Airport under their own designator, and would correct the Tri-Cities Regional Airport city designator from Blountville, TN, to Tri-Cities, TN, as originally proposed in the NPRM of April 28, 2012 (77 FR 21505). Interested parties were invited to participate in this rulemaking effort by submitting written comments on the proposal to the FAA. No comments were received. Subsequent to publication of the SNPRM, the FAA found errors in the descriptors of the Class E surface airspace and Class E airspace extending upward from 700 feet above the surface. This action makes the corrections. Class D and E airspace designations are published in paragraph 5000, 6002, 6004, and 6005, respectively, of FAA Order 7400.9W dated August 8, 2012, and effective September 15, 2012, which is incorporated by reference in 14 CFR 71.1. The Class D and E airspace designations listed in this document will be published subsequently in the Order. With the exception of editorial changes, and the changes described above, this rule is the same as that proposed in the SNPRM.

The Rule

This amendment to Title 14, Code of Federal Regulations (14 CFR) part 71 amends Class D and Class E surface airspace, removes Class E airspace designated as an extension to Class D, and amends Class E airspace extending upward from 700 feet above the surface at Tri-Cities, TN, to provide the controlled airspace required to accommodate the new RNAV (GPS) Standard Instrument Approach Procedures developed for Tri-Cities Regional Airport. Also, the coordinates of the airport are corrected to be in concert with the FAAs aeronautical database. The city designator for Tri-Cities Regional Airport is changed from Blountville, TN, to Tri-Cities, TN; the current Class E airspace extending upward from 700 feet above the surface for Hawkins County Airport, Rogersville, TN, and Virginia Highlands Airport, VA, is now listed under their own city designator. This action furthers the safety and management of controlled airspace within the National Airspace System.

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of airspace necessary to ensure the safety of aircraft and the efficient use of airspace. This regulation is within the scope of that authority as it establishes controlled airspace in the Tri-Cities, TN.

Lists of Subjects in 14 CFR Part 71

Airspace, Incorporation by reference, Navigation (Air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9W, Airspace Designations and Reporting Points, dated August 8, 2012, effective September 15, 2012, is amended as follows:

Paragraph 5000 Class D Airspace

* * * * *

ASO TN D Tri-Cities, TN [Amended]

Tri-Cities Regional Airport, TN/VA

(Lat. 36°28′31″ N., long. 82°24′27″ W.)

Edwards Heliport, TN

(Lat. 36°25′57″ N., long. 82°17′37″ W.)

That airspace extending upward from the surface to and including 4,000 feet MSL within a 6.8-mile radius of Tri-Cities Regional Airport, excluding the 2.5-mile radius of Edwards Heliport. This Class D airspace area is effective during the specific days and times established in advance by a Notice to Airmen. The effective days and times will thereafter be continuously published in the Airport/Facility Directory.

Paragraph 6002 Class E Airspace Designated as Surface Areas

* * * * *

ASO TN E2 Tri-Cities, TN [Amended]

Tri-Cities Regional Airport, TN/VA

(Lat. 36°28′31″ N., long. 82°24′27″ W.)

That airspace extending upward from the surface within a 6.8-mile radius of Tri-Cities Regional Airport. This Class E airspace area is effective during the specific days and times established in advance by a Notice to Airmen. The effective days and times will thereafter be continuously published in the Airport/Facility Directory.

Paragraph 6004 Class E Airspace Designated as an Extension to a Class D Surface Area.

* * * * *

ASO TN E4 Tri-City, TN [Removed]

Paragraph 6005 Class E Airspace Areas Extending Upward from 700 feet or More Above the Surface of the Earth.

* * * * *

ASO TN E5 Tri-Cities, TN [Amended]

Tri-Cities Regional Airport, TN/VA

(Lat. 36°28′31″ N., long. 82°24′27″ W.)

That airspace extending upward from 700 feet above the surface within a 9.3-mile radius of Tri-Cities Regional Airport and within 4-miles west and 8-miles east of the 223° bearing from the airport extending from the 9.3-mile radius to 23 miles southwest of the airport, and within 2-miles either side of the 43° bearing from the airport extending from the 9.3-mile radius to 14.5 miles northeast of the airport.

* * * * *

ASO TN E5 Rogersville, TN [New]

Hawkins County Airport, TN

(Lat. 36°27′27″ N., long. 82°53′06″ W.)

That airspace extending upward from 700 feet above the surface within a 7-mile radius of Hawkins County Airport, and within 7 miles each side of Runway 07/25 centerline, extending from the 7-mile radius to 12 miles east of Hawkins County Airport.

* * * * *

ASO VA E5 Abingdon, VA [New]

Virginia Highlands Airport, VA

(Lat. 36°41′14″ N., long. 82°02′00″ W.)

That airspace extending upward from 700 feet above the surface within a 17-mile radius of Virginia Highlands Airport.

Issued in College Park, Georgia, on January 23, 2013.
Barry A. Knight,
Manager, Operations Support Group, Eastern Service Center, Air Traffic Organization.

[FR Doc. 2013-02324 Filed 2-4-13; 8:45 am]

BILLING CODE 4910-13-P